DEPARTMENT OF THE TREASURY

Submission for OMB Review; Comment Request

November 2, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 10, 2004 to be assured of consideration.

Alcohol and Tobacco Tax and Trade Bureau (TTB)

OMB Number: 1513-0044.

Form Number: TTB F 5110.34.

Type of Review: Extension.

Title: Notice of Change in Status of Plant.

Description: TTB F 5110.34 is necessary to show the use of the distilled spirits plan (DSP) premises for other activities or by alternating proprietors. It describes proprietor's use of plant premises and other information show that the change in plant status is in community with law and regulations. It also shows what bond covers the activities of the DSP at a given time.

Respondents: Business of other for-profit.

Estimated Number of Respondents: 100.

Estimated Burden Hours Per Respondent: 1 hour.

Frequency of Response: On occasion.

Estimated Total Reporting Burden: 1,000 hours.

OMB Number: 1513-0050.

Form Number: TTB F 5110.50.

Type of Review: Extension.

Title: Tax Deferral Bond—Distilled Spirits (Puerto Rico).

Description: TTB Form 5110.50 is the bond to secure payment of excise taxes on distilled spirits shipped from Puerto Rico to the U.S. on deferral of the tax. The form identifies the principal, the surety, purpose of bond, and allocation of the penal sum among the principal's locations.

Respondents: Business of other for-profit.

Estimated Number of Respondents: 10.

Estimated Burden Hours Per Respondent: 1 hour.

Frequency of Response: On occasion.

Estimated Total Reporting Burden: 10 hours.

Clearance Officer: William H. Foster, (202) 927-8210, Alcohol and Tobacco Tax and Trade Bureau, Room 200 East, 1310 G. Street, NW., Washington, DC 20005.

OMB Reviewer: Joseph F. Lackey, Jr., (202) 395-7316, Office of Management and Budget, Room 10235, New Executive Office Building, Washington, DC 20503.

Lois K. Holland,
Treasury PRA Clearance Officer.

[FR Doc. 04-25049 Filed 11-9-04; 8:45 am]

BILLING CODE 4810-31-P